DEPARTMENT OF THE INTERIOR

National Park Service

[NPS-WASO-NAGPRA-NPS0028265; PPWOCRADN0-PCU00RP14.R50000]

Notice of Inventory Completion: Milwaukee Public Museum, Milwaukee, WI

AGENCY: National Park Service, Interior.

ACTION: Notice.

SUMMARY: The Milwaukee Public Museum (MPM) has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Milwaukee Public Museum. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Milwaukee Public Museum at the address in this notice by August 8, 2019.

ADDRESSES: Dawn Scher Thomae, Milwaukee Public Museum, 800 W Wells Street, Milwaukee, WI 53233, telephone (414) 278-6157, email thomae@mpm.edu.

SUPPLEMENTARY INFORMATION: Notice is here given in accordance with the Native American Graves Protection and Repatriation Act (NAGPRA), 25 U.S.C. 3003, of the completion of an inventory of human remains and associated funerary objects under the control of the Milwaukee Public Museum, Milwaukee, WI. The human remains and associated funerary objects were removed from southwestern KY.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Milwaukee Public Museum professional staff in consultation with representatives of The Chickasaw Nation and The Choctaw Nation of Oklahoma. The Quapaw Tribe of Indians were invited to consult but did not participate.

History and Description of the Remains

In 1938, human remains representing, at minimum, four adult individuals were removed from southwestern KY by T.M.N. Lewis (University of Tennessee archeology instructor) and donated to MPM. The age of individuals cannot be determinated. No known individuals were identified. The nine associated funerary objects are pottery sherds that approximately date to the Late Woodland/Mississippian time periods.

Determinations Made by the Milwaukee Public Museum

Officials of the Milwaukee Public Museum have determined that:

• Pursuant to 25 U.S.C. 3001(9), the human remains described in this notice are Native American based on examination by two individuals with knowledge and training in identifying Native American human remains.

• Pursuant to 25 U.S.C. 3001(9), the human remains described in this notice represent the physical remains of four individuals of Native American ancestry.

• Pursuant to 25 U.S.C. 3001(3)(A), the nine objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of The Chickasaw Nation; The Choctaw Nation of Oklahoma; and The Quapaw Tribe of Indians (hereafter referred to as “The Tribes”).

• Treaties, Acts of Congress, or Executive Orders, indicate that the land from which the Native American human remains and associated funerary objects were removed is the aboriginal land of The Tribes.

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Dawn Scher Thomae, Milwaukee Public Museum, 800 W Wells Street, Milwaukee, WI 53233, telephone (414) 278-6157, email thomae@mpm.edu, by August 8, 2019. After that date, if no additional requestors have come forward, transfer of control of the human remains and associated funerary objects to The Tribes may proceed.

The Milwaukee Public Museum is responsible for notifying The Tribes that this notice has been published.

Dated: June 21, 2019.
Melanie O'Brien,
Manager, National NAGPRA Program.

[FR Doc. 2019-14563 Filed 7-8-19; 8:45 am]

BILLING CODE 4312-52-P